NUCLEAR REGULATORY COMMISSION

[NRC-2011-0228]

Interim Staff Guidance on Aging Management Program for Steam Generators

AGENCY: Nuclear Regulatory Commission.

ACTION: Interim staff guidance; issuance.

SUMMARY: The U.S. Nuclear Regulatory Commission (NRC) is issuing License Renewal Interim Staff Guidance (LR-ISG), LR-ISG-2011-02, “Aging Management Program for Steam Generators.” This LR-ISG provides the NRC staff's evaluation of the suitability of using Revision 3 of the Nuclear Energy Institute's (NEI) document, NEI 97-06, “Steam Generator Program Guidelines,” (NRC's Agencywide Documents Access and Management System (ADAMS) Accession No. ML111310712) to manage steam generator aging. The LR-ISG revises the NRC staff's aging management recommendations currently described in Chapter XI.M19 of NUREG-1801, “Generic Aging Lessons Learned (GALL) Report,” Revision 2, dated December 2010, which is available in ADAMS under Accession No. ML103490041; and NUREG-1800, Revision 2, “Standard Review Plan for Review of License Renewal Applications for Nuclear Power Plants,” which is available in ADAMS under Accession No. ML103490036.

ADDRESSES: You can access publicly available documents related to this document using the following methods:

• NRC's Public Document Room (PDR): The public may examine and have copied, for a fee, publicly available documents at the NRC's PDR, O1-F21, One White Flint North, 11555 Rockville Pike, Rockville, Maryland 20852.

• ADAMS: Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The LR-ISG-2011-02 is available under ADAMS Accession No. ML11297A085.

• Federal Rulemaking Web Site: Public comments and supporting materials related to this final rule can be found at http://www.regulations.gov by searching on Docket ID NRC-2011-0228. Address questions about NRC dockets to Carol Gallagher, telephone: (301) 492-3668; email: Carol.Gallagher@nrc.gov.

• NRC's Interim Staff Guidance Web Site: LR-ISG documents are also available online under the “License Renewal” heading at http://www.nrc.gov/reading-rm/doc-collections/#int.

FOR FURTHER INFORMATION CONTACT: Dr. Seung Min, Division of License Renewal, Office of Nuclear Reactor Regulation, U.S. Nuclear Regulatory Commission, Washington, DC 20555-0001; telephone: (301) 415-2045, or email: Seung.Min@nrc.gov, or Ms. Evelyn Gettys, Division of License Renewal, Office of Nuclear Reactor Regulation, U.S. Nuclear Regulatory Commission, Washington, DC 20555-001; telephone: (301) 415-4029, or email: Evelyn.Gettys@nrc.gov.

SUPPLEMENTARY INFORMATION:

Background

Revision 2 of NEI 97-06 was issued in September 2005. Since that time, all licensees have adopted new steam generator technical specification requirements. Revision 3 of NEI 97-06 was provided to the NRC on May 6, 2011.

On September 30, 2011 (76 FR 60937), the NRC published a request for public comments on draft LR-ISG-2011-02 in the Federal Register. The public comment period closed on October 20, 2011. The NRC received no comments and is issuing LR-ISG-2011-02. This LR-ISG will be incorporated into the next formal license renewal guidance document revision.

Dated at Rockville, Maryland, this 21st day of November 2011.
For the Nuclear Regulatory Commission.
Melanie A. Galloway,
Acting Director, Division of License Renewal, Office of Nuclear Reactor Regulation.

[FR Doc. 2011-30896 Filed 11-30-11; 8:45 am]

BILLING CODE 7590-01-P